ENVIRONMENTAL PROTECTION AGENCY

[EPA-HQ-OPP-2017-0466; FRL-9272-01-OCSPP]

Spirodiclofen; Product Cancellation Order for Certain Pesticide Registrations; Amendment

AGENCY: Environmental Protection Agency (EPA).

ACTION: Notice.

SUMMARY: EPA issued a notice in the Federal Register on December 21, 2020 to amend the effective date of cancellation for the two spirodiclofen registrations listed in Table 1B of the cancellation order published in the Federal Register on April 13, 2018. The affected registrations for that cancellation order, EPA Registration Nos. 264-830 and 264-831 were registered to Bayer CropScience. The December 21, 2020, notice in the Federal Register was issued to amend the cancellation order, as requested by Bayer, by amending the effective date of the cancellation and the existing stocks provision for the two spirodiclofen registrations until December 31, 2021. Subsequent to the issuance of this cancellation order, the two registrations were transferred to the Gowan Company and Gowan has requested that the cancellation order be rescinded. EPA is extending the effective date of cancellation to June 30, 2022 while considering Gowan's request. The cancellation of these two registrations would terminate the last spirodiclofen products registered for use in the United States. Any distribution, sale, or use of the products subject to this cancellation order is permitted only in accordance with the terms of this order, including any existing stocks provisions.

DATES: The Federal Register of December 21, 2020, announced the voluntary cancellation of two spirodiclofen registrations (EPA Registration Nos. 264-830 and 264-831) as requested by the registrant, effective December 31, 2021. The Agency is now amending the effective date of cancellation to June 30, 2022.

FOR FURTHER INFORMATION CONTACT: Veronica Dutch, Pesticide Re-evaluation Division (7508P), Office of Pesticide Programs, Environmental Protection Agency, 1200 Pennsylvania Ave., NW, Washington, DC 20460-0001; telephone number: (202) 566-2352; email address: dutch.veronica@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2017-0466, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001.

Due to the public health emergency, the EPA Docket Center (EPA/DC) and Reading Room is closed to visitors with limited exceptions. The staff continues to provide remote customer service via email, phone, and webform. For the latest status information on EPA/DC services and docket access, visit https://www.epa.gov/dockets.

II. What action is the Agency taking?

This notice is being issued to amend the effective date for cancellation the two spirodiclofen registrations (now EPA Registration Nos. 10163-382 and 10163-383) as published in the Federal Register on December 21, 2020 (85 FR 83078) (FRL 10017-47). The transfer of these spirodiclofen products to Gowan became effective on March 18, 2021. Gowan committed to develop required data with the intention of maintaining these spirodiclofen registrations in a letter dated October 8, 2020. With this notice, EPA is hereby amending the effective date for cancellation of EPA Registration Nos. 10163-382 and 10163-383 to June 30, 2022. Although Gowan submitted data and waiver requests to EPA as they had committed to do, EPA recently completed draft ecological and human health risk assessments as part of registration review which identified potential cancer dietary (water and food) risks of concern, along with potential ecological risks of concern for certain taxa, including mammals and honeybees. Changes to the spirodiclofen labels are necessary to adequately mitigate those risks. EPA is extending the effective date of cancellation to further consider Gowan's request to rescind the cancellation order. Consistent with the previous cancellation order, the registrant would be prohibited from producing, selling, or distributing existing stocks of products containing spirodiclofen following the cancellation effective date. Other entities would be permitted to sell, distribute, and use stocks of spirodiclofen until stocks are exhausted. The cancellation of these two registrations would terminate the last spirodiclofen products registered for use in the United States.

Authority: 7 U.S.C. 136 et seq.

Dated: November 15, 2021.
Mary Reaves,
Director, Pesticide Re-Evaluation Division, Office of Pesticide Programs.

[FR Doc. 2021-25214 Filed 11-18-21; 8:45 am]

BILLING CODE 6560-50-P